DEPARTMENT OF VETERANS AFFAIRS

[OMB Control No. 2900-New (ROSI)]

Proposed Information Collection (Recovery Oriented System Indicator and Mental Health Recovery Measure); Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments for information needed to implement a mental health recovery assessment baseline.

DATES: Written comments and recommendations on the proposed collection of information should be received on or before June 27, 2008.

ADDRESSES: Submit written comments on the collection of information through http://www.Regulations.gov; or to Mary Stout, Veterans Health Administration (193E1), Department of Veterans Affairs, 810 Vermont Avenue, NW., Washington, DC 20420; or e-mail: mary.stout@va.gov. Please refer to “OMB Control No. 2900-New (ROSI)” in any correspondence. During the comment period, comments may be viewed online through the Federal Docket Management System (FDMS) at http://www.Regulations.gov.

FOR FURTHER INFORMATION CONTACT: Mary Stout (202) 461-5867 or FAX (202) 273-9381.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles

a. Recovery Oriented System Indicator (ROSI), VA Form 10-21084a.

b. Mental Health Recovery Measure (MHRM), VA Form 10-2184b.

OMB Control Number: 2900-New (ROSI).

Type of Review: New collection.

Abstract: VA Form 10-21084a, Recovery Oriented System Indicator (ROSI), will be employed to assess consumer perceptions of the provision of recovery services at their facility, and the presence of recovery oriented attitudes among staff. It will be used to develop a Performance Measure that would require all sites to have a composite score on the ROSI that is in at least the 85th percentile of all Veterans Integrated Service Networks.

VA Form 10-21084b, Mental Health Recovery Measure (MHRM) is a brief self-report measure of a person's own progress toward recovery.

Affected Public: Individuals or households.

Estimated Annual Burden

a. Recovery Oriented System Indicator (ROSI), VA Form 10-21084a-8,600.

b. Mental Health Recovery Measure (MHRM), VA Form 10-2184b-5,733.

Estimated Average Burden Per Respondent:

a. Recovery Oriented System Indicator (ROSI), VA Form 10-21084a-12 minutes.

b. Mental Health Recovery Measure (MHRM), VA Form 10-2184b-8 minutes.

Frequency of Response: On occasion.

Estimated Number of Respondents: a. Recovery Oriented System Indicator (ROSI), VA Form 10-21084a-43,000. b. Mental Health Recovery Measure (MHRM), VA Form 10-2184b-43,000.

Dated: April 17, 2008.
By direction of the Secretary.
Denise McLamb,
Program Analyst, Records Management Service.

[FR Doc. E8-9134 Filed 4-25-08; 8:45 am]

BILLING CODE 8320-01-P